DEPARTMENT OF COMMERCE

Foreign-Trade Zones Board

[S-159-2016]

Approval of Subzone Status; Aceros de América, Inc., San Juan, Puerto Rico

On November 10, 2016, the Executive Secretary of the Foreign-Trade Zones (FTZ) Board docketed an application submitted by the Puerto Rico Trade & Export Company, grantee of FTZ 61, requesting subzone status subject to the existing activation limit of FTZ 61, on behalf of Aceros de América, Inc., in San Juan, Puerto Rico.

The application was processed in accordance with the FTZ Act and Regulations, including notice in the Federal Register inviting public comment (81 FR 80635, November 16, 2016). The FTZ staff examiner reviewed the application and determined that it meets the criteria for approval.

Pursuant to the authority delegated to the FTZ Board's Executive Secretary (15 CFR 400.36(f)), the application to establish Subzone 61S is approved, subject to the FTZ Act and the Board's regulations, including section 400.13, and further subject to FTZ 61's 1,821.07-acre activation limit.

Dated: April 13, 2017.
Andrew McGilvray,
Executive Secretary.

[FR Doc. 2017-07897 Filed 4-18-17; 8:45 am]

BILLING CODE 3510-DS-P